ENVIRONMENTAL PROTECTION AGENCY

40 CFR Parts 52 and 81

[EPA R03-OAR-2004-WV-0001; FRL-8168-7]

Approval and Promulgation of Air Quality Implementation Plans; West Virginia; Withdrawal of Proposed Rule

AGENCY: Environmental Protection Agency (EPA).

ACTION: Withdrawal of proposed rule.

SUMMARY: Due to an adverse comment, EPA is withdrawing its Notice of Proposed Rulemaking to redesignate the City of Weirton PM-10 nonattainment area to attainment and approval of the maintenance plan published on October 27, 2004 (69 FR 62637). EPA is also withdrawing the correcting amendment to the NPR published on November 9, 2004 (69 FR 64860).

DATES: The proposed rule is withdrawn as of May 11, 2006.

FOR FURTHER INFORMATION CONTACT: Linda Miller, (215) 814-2068, or by e-mail at miller.linda@epa.gov.

SUPPLEMENTARY INFORMATION: Elsewhere in today's Federal Register, a separate proposed rulemaking entitiled “Approval and Promulgation of Air Quality Implementation Plans; West Virginia; Redesignation of the City of Weirton PM-10 Nonattainment Area to Attainment and Approval of the Limited Maintenance Plan,” provides more detailed legal and factual basis for supporting our decision to withdraw the NPR and its related correcting amendment. Our proposed action to approve the State of West Virginia request to redesignate the Weirton area to attainment and approve the associated maintenance plan is also found in the NPR in today's Federal Register.

Separate dockets have been prepared for the new proposal and this notice to withdraw the October 27, 2004 Weirton notice of proposed rulemaking.

List of Subjects

40 CFR Part 52

Environmental protection, Air pollution control, Incorporation by reference, Particulate matter, Reporting and recordkeeping requirements.

40 CFR Part 81

Environmental protection, Air pollution control, National Parks, Wilderness areas.

Dated: April 28, 2006.
Judith Katz,
Acting Regional Administrator, Region III.

[FR Doc. E6-7215 Filed 5-10-06; 8:45 am]

BILLING CODE 6560-50-P